DEPARTMENT OF HEALTH AND HUMAN SERVICES

[Document Identifier: CMS-10339]

Office of Consumer Information and Insurance Oversight; Emergency Clearance; Public Information Collection Requirements Submitted to the Office of Management and Budget (OMB)

AGENCY: Office of Consumer Information and Insurance Oversight, HHS.

In compliance with the requirement of section 3506(c)(2)(A) of the Paperwork Reduction Act of 1995, the Office of Consumer Information and Insurance Oversight (OCIIO), the U.S. Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

We are, however, requesting an emergency review of the information requested below. In compliance with the requirement of Section 3506(c)(2)(a) of the Paperwork Reduction Act of 1995, we have submitted to the Office of Management and Budget (OMB) the following requirements for emergency review. In accordance with 5 CFR 1320.13, we are requesting an emergency review to ensure compliance with an initiative of the Administration.

1. Type of Information Collection Request: Revision of a currently approved collection; Title of Information Collection: Pre-Existing Health Insurance Plan and Supporting Regulations; Use: On March 23, 2010, the President signed into law H.R. 3590, the Patient Protection and Affordable Care Act (Affordable Care Act), Public Law 111-148. Section 1101 of the law establishes a “temporary high risk health insurance pool program” (which has been named the Pre-Existing Condition Insurance Plan, or PCIP) to provide health insurance coverage to currently uninsured individuals with pre-existing conditions. The law authorizes HHS to carry out the program directly or through contracts with States or private, non-profit entities.

We are requesting a revision for this package because this information is needed to assure that PCIP programs are established timely and effectively. HHS is now seeking emergency approval for this collection. The collection has been revised to include the burden associated with portability requirements. This request is being made based on regulations and guidance that have been issued and contracts which have been executed by HHS with States or an entity on their behalf participating in the PCIP program. PCIP is also referred to as the temporary qualified high risk insurance pool program, as it is called in the Affordable Care Act, but we have adopted the term PCIP to better describe the program and avoid confusion with the existing State high risk pool programs. Form Number: CMS-10339 (OMB#: 0938-1100); Frequency: Reporting—On occasion; Affected Public: State governments; Number of Respondents: 51; Total Annual Responses: 2,652; Total Annual Hours: 36,924. (For policy questions regarding this collection contact Laura Dash at 410-786-8623. For all other issues call 410-786-1326.)

OCIIO is requesting OMB approval by January 18, 2011, with a 180-day approval period. Written comments and recommendations will be considered from the public if received by the individuals designated below by January 18, 2011.

To obtain copies of the supporting statement and any related forms for the proposed paperwork collections references above, access CMS' Web site address at http://www.cms.hhs.gov/PaperworkReductionActof1995 or E-mail your request, including your address, phone number, OMB Number, and CMS document identifier to Paperwork@cms.hhs.gov, or call the Reports Clearance Office on (410) 786-1326.

Interested parties are invited to send comments regarding the burden or any other aspect of these collections of information requirements. To be assured consideration, comments and recommendations must be submitted in one of the following ways by January 18, 2011:

1. Electronically. You may submit your comments electronically to http://Regulations.gov. Follow the instructions for “Comment or Submission” or “More Search Options” to find the information collection document(s) accepting comments.

2. By regular mail. Office of Consumer Information and Insurance Oversight, Department of Health and Human Services, Attention: Paperwork Reduction Act, Room 445-G, Hubert H. Humphrey Building, 200 Independence Avenue, SW., Washington, DC 20201. Please allow sufficient time for mailed comments to be received before the close of the comment period. (Because access to the interior of the Hubert H. Humphrey Building is not readily available to persons without Federal government identification, commenters are encouraged to leave their comments in the OCIIO drop slots located in the main lobby of the building. A stamp-in clock is available for persons wishing to retain a proof of filing by stamping in and retaining an extra copy of the comments being filed.)

3. By facsimile or E-mail to OMB. OMB, Office of Information and Regulatory Affairs, Attention: CMS Desk Officer, Fax Number (202) 395-6974, E-mail: OIRA_submission@omb.eop.gov.

Dated: January 4, 2011.
Kenneth Cohen,
Director, Executive Secretariat & Regulatory Affairs, Office of Consumer Information and Insurance Oversight.

[FR Doc. 2011-142 Filed 1-6-11; 8:45 am]

BILLING CODE 4120-01-P